DEPARTMENT OF ENERGY

Federal Energy Regulatory Commission

Combined Notice of Filings

Take notice that the Commission has received the following Natural Gas Pipeline Rate and Refund Report filings:

Filings Instituting Proceedings

Docket Numbers: RP17-621-001.

Applicants: Transcontinental Gas Pipe Line Company.

Description: Transcontinental Gas Pipe Line Company, LLC submits tariff filing per 154.205(b): Negotiated Rates—Dalton Expansion—Oglethorpe Capac Rls—AMENDMENT Filg to be effective 4/1/2017.

Filed Date: 03/31/2017.

Accession Number: 20170331-5524.

Comment Date: 5:00 p.m. Eastern Time on Wednesday, April 12, 2017.

Docket Numbers: RP17-626-000.

Applicants: Gulf Crossing Pipeline Company LLC.

Description: Gulf Crossing Pipeline Company LLC submits tariff filing per 154.204: Assign Cross Timbers to XTO (XTO 1846) to be effective 4/1/2017.

Filed Date: 04/03/2017.

Accession Number: 20170403-5455.

Comment Date: 5:00 p.m. Eastern Time on Monday, April 17, 2017.

Docket Numbers: RP17-627-000.

Applicants: Texas Gas Transmission, LLC.

Description: Texas Gas Transmission, LLC submits tariff filing per 154.204: Neg Rate Agmt (EcoEnergy 36134) to be effective 4/1/2017.

Filed Date: 04/03/2017.

Accession Number: 20170403-5457.

Comment Date: 5:00 p.m. Eastern Time on Monday, April 17, 2017.

Docket Numbers: RP17-628-000.

Applicants: Texas Gas Transmission, LLC.

Description: Texas Gas Transmission, LLC submits tariff filing per 154.204: Neg Rate Agmt (XTO 36084) to be effective 4/1/2017.

Filed Date: 04/03/2017.

Accession Number: 20170403-5460.

Comment Date: 5:00 p.m. Eastern Time on Monday, April 17, 2017.

Docket Numbers: RP17-629-000.

Applicants: Texas Eastern Transmission, LP.

Description: Texas Eastern Transmission, LP submits tariff filing per 154.204: Negotiated Rates—Piedmont to Atmos—8944226 & 8944227 to be effective 11/1/2017.

Filed Date: 04/03/2017.

Accession Number: 20170403-5461.

Comment Date: 5:00 p.m. Eastern Time on Monday, April 17, 2017.

Docket Numbers: RP17-630-000.

Applicants: Gulf South Pipeline Company, LP.

Description: Gulf South Pipeline Company, LP submits tariff filing per 154.204: Cap Rel Neg Rate Agmt (Encana 37663 to Texla 47957) to be effective 4/1/2017.

Filed Date: 04/03/2017.

Accession Number: 20170403-5465.

Comment Date: 5:00 p.m. Eastern Time on Monday, April 17, 2017.

Docket Numbers: RP17-631-000.

Applicants: Gulf South Pipeline Company, LP.

Description: Gulf South Pipeline Company, LP submits tariff filing per 154.204: Cap Rel Neg Rate Agmt (EOG 34687 to Trans LA 47776) to be effective 4/1/2017.

Filed Date: 04/03/2017.

Accession Number: 20170403-5466.

Comment Date: 5:00 p.m. Eastern Time on Monday, April 17, 2017.

Docket Numbers: RP17-632-000.

Applicants: Gulf South Pipeline Company, LP.

Description: Gulf South Pipeline Company, LP submits tariff filing per 154.204: Amendment to Neg Rate Agmt & Cap Rel Agmt (CO Bend 36260-2) to be effective 4/1/2017.

Filed Date: 04/03/2017.

Accession Number: 20170403-5467.

Comment Date: 5:00 p.m. Eastern Time on Monday, April 17, 2017.

Docket Numbers: RP17-633-000.

Applicants: Millennium Pipeline Company, LLC.

Description: Millennium Pipeline Company, LLC submits tariff filing per 154.204: Modification to Spot Market Price Location Filing to be effective 5/3/2017.

Filed Date: 04/03/2017.

Accession Number: 20170403-5488.

Comment Date: 5:00 p.m. Eastern Time on Monday, April 17, 2017.

Docket Numbers: RP17-634-000.

Applicants: Texas Gas Transmission, LLC.

Description: Texas Gas Transmission, LLC submits tariff filing per 154.204: Cap Rel Neg Rate Agmt (Gulfport 35446 to BP 36157) to be effective 4/1/2017.

Filed Date: 04/03/2017.

Accession Number: 20170403-5497.

Comment Date: 5:00 p.m. Eastern Time on Monday, April 17, 2017.

Docket Numbers: RP17-635-000.

Applicants: Tallgrass Interstate Gas Transmission, L.

Description: Tallgrass Interstate Gas Transmission, LLC submits tariff filing per 154.204: NRA Removal 2017/4/3 to be effective 4/3/2017.

Filed Date: 04/03/2017.

Accession Number: 20170403-5498.

Comment Date: 5:00 p.m. Eastern Time on Monday, April 17, 2017.

Docket Numbers: RP17-636-000.

Applicants: Texas Gas Transmission, LLC.

Description: Texas Gas Transmission, LLC submits tariff filing per 154.204: Cap Rel Neg Rate Agmt (Edgemarc 35451 to BP 36154) to be effective 4/1/2017.

Filed Date: 04/03/2017.

Accession Number: 20170403-5501.

Comment Date: 5:00 p.m. Eastern Time on Monday, April 17, 2017.

Docket Numbers: RP17-637-000.

Applicants: Equitrans, L.P.

Description: Equitrans, L.P. submits tariff filing per 154.204: Negotiated Capacity Release Agreements—4/1/17 to be effective 4/1/2017.

Filed Date: 04/03/2017.

Accession Number: 20170403-5515.

Comment Date: 5:00 p.m. Eastern Time on Monday, April 17, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2017.
Kimberly D. Bose,
Secretary.

[FR Doc. 2017-07172 Filed 4-10-17; 8:45 am]

BILLING CODE 6717-01-P